DEPARTMENT OF TRANSPORTATION

Federal Aviation Administration

14 CFR Part 39

[Docket No. 2001-NM-385-AD; Amendment 39-12609; AD 2002-01-15]

RIN 2120-AA64

Airworthiness Directives; Boeing Model 767-200, -300, and -300F Series Airplanes

AGENCY: Federal Aviation Administration, DOT.

ACTION: Final rule; request for comments.

SUMMARY: This amendment adopts a new airworthiness directive (AD) that is applicable to certain Boeing Model 767-200, -300, and -300F series airplanes. This action requires repetitive inspections of the lubrication passage and link assembly joint in the inboard and outboard flaps of the trailing edge for discrepancies, and corrective action, if necessary. This action is necessary to prevent failure of the bearings in the link assembly joint, which could result in separation of the outboard flap and consequent loss of control of the airplane. This action is intended to address the identified unsafe condition.

DATES: Effective February 14, 2002.

The incorporation by reference of certain publications listed in the regulations is approved by the Director of the Federal Register as of February 14, 2002.

Comments for inclusion in the Rules Docket must be received on or before April 1, 2002.

ADDRESSES: Submit comments in triplicate to the Federal Aviation Administration (FAA), Transport Airplane Directorate, ANM-114, Attention: Rules Docket No. 2001-NM-385-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-iarcomment@faa.gov. Comments sent via fax or the Internet must contain “Docket No. 2001-NM-385-AD” in the subject line and need not be submitted in triplicate. Comments sent via the Internet as attached electronic files must be formatted in Microsoft Word 97 for Windows or ASCII text.

The service information referenced in this AD may be obtained from Boeing Commercial Airplane Group, P.O. Box 3707, Seattle, Washington 98124-2207. This information may be examined at the FAA, Transport Airplane Directorate, 1601 Lind Avenue, SW., Renton, Washington; or at the Office of the Federal Register, 800 North Capitol Street, NW., suite 700, Washington, DC.

FOR FURTHER INFORMATION CONTACT: John Craycraft, Aerospace Engineer, Airframe Branch, ANM-120S, FAA, Seattle Aircraft Certification Office, 1601 Lind Avenue, SW., Renton, Washington 98055-4056; telephone (425) 227-2782; fax (425) 227-1181.

SUPPLEMENTARY INFORMATION: The FAA has received reports indicating that fractured bearings and blocked lubrication passages of the link assembly joint in the inboard and outboard flaps of the trailing edge were found on certain Boeing Model 767 series airplanes. The fractured bearings cause looseness in the joint, resulting in damage to the joint pin, the link assembly bore, and another joint fitting. The bearings were thought to have fractured due to lack of lubrication to the joint, which was caused by shot peen pellets blocking the lubrication passage. However, further data revealed that failure of the bearings can occur even when they are properly lubricated. Such failure in the link assembly joint, if not found and fixed, could result in separation of the outboard flap and consequent loss of control of the airplane.

Explanation of Relevant Service Information

The FAA has reviewed and approved Boeing Alert Service Bulletin 767-27A0167, dated December 7, 2000, which describes procedures for initial and repetitive inspections of the lubrication passage and link assembly joint in the inboard and outboard flaps of the trailing edge for discrepancies (blocked lubrication passage, fractured bearings, loose or damaged joint). The service bulletin also provides corrective action for the repetitive inspections and states that it eliminates the need for continued inspections. The corrective action includes removal and inspection of the link assembly for damage, and replacement of the link assembly with a new assembly if damage is found.

Explanation of the Requirements of the Rule

Since an unsafe condition has been identified that is likely to exist or develop on other airplanes of the same type design, this AD is being issued to prevent failure of the bearings in the link assembly joint. This AD requires repetitive inspections of the lubrication passage and link assembly joint in the inboard and outboard flaps of the trailing edge for discrepancies, and corrective action, if necessary. The actions are required to be accomplished in accordance with the service bulletin described previously, except as discussed below.

Differences Between Alert Service Bulletin and This AD

Part 2 of the Accomplishment Instructions of the service bulletin provides for a terminating action that involves replacing the link assemblies in the inboard and outboard flaps of the trailing edge. Because of the recent failure of a bearing that was properly lubricated, the FAA does not currently recognize that action as terminating action for the repetitive inspections described previously. Therefore, while this AD requires replacement of the link assemblies as corrective action, the FAA does not recognize such replacement as terminating action, so the repetitive inspections must continue.

The compliance time for the initial inspections of the lubrication passage and link assembly joint in the inboard and outboard flaps of the trailing edge, as specified in the service bulletin, is within 90 days for Group 1 airplanes, or within 18 months for Group 2 airplanes. For airplanes that have done Part 2 of the service bulletin, this AD requires the initial inspection be done within 6 months after the effective date of this AD. For airplanes that have not done Part 2 of the service bulletin, this AD requires the initial inspection be done within 90 days after the effective date of this AD or within 36 months after date of manufacture of the airplane, whichever is later.

The service bulletin also specifies doing follow-on repetitive inspections every 60 days if the lubrication passage is blocked and no fractured bearing or loose or damaged joint is found, until accomplishment of the terminating action within 24 months after the initial inspections. This AD requires doing repetitive inspections every 30 days if the lubrication passage is blocked and no fractured bearing or loose or damaged joint is found, then accomplishment of the corrective action within 6 months after doing the initial inspections, and repetitive inspections every 6 months after that. This AD also requires doing the repetitive inspections every 6 months if the lubrication passage is not blocked and no fractured bearing or loose or damaged joint is found. The FAA has determined that these compliance times represent the maximum interval of time allowable for affected airplanes to continue to safely operate before the required actions are accomplished.

In addition, the service bulletin does not identify the type of inspection that is involved in the procedures for inspecting the lubrication passage and link assembly joint in the inboard and outboard flaps of the trailing edge. The FAA refers to this inspection in the AD as a “general visual” inspection.

Interim Action

This is considered to be interim action until final action is identified, at which time the FAA may consider further rulemaking. The final action may require accomplishment of Part 2 of the Accomplishment Instructions of the service bulletin, in addition to a new terminating action that may be developed. The new action may specifically address the failure of properly lubricated bearings, and the two actions may have different compliance thresholds.

Determination of Rule's Effective Date

Since a situation exists that requires the immediate adoption of this regulation, it is found that notice and opportunity for prior public comment hereon are impracticable, and that good cause exists for making this amendment effective in less than 30 days.

Comments Invited

Although this action is in the form of a final rule that involves requirements affecting flight safety and, thus, was not preceded by notice and an opportunity for public comment, comments are invited on this rule. Interested persons are invited to comment on this rule by submitting such written data, views, or arguments as they may desire. Communications shall identify the Rules Docket number and be submitted in triplicate to the address specified under the caption ADDRESSES. All communications received on or before the closing date for comments will be considered, and this rule may be amended in light of the comments received. Factual information that supports the commenter's ideas and suggestions is extremely helpful in evaluating the effectiveness of the AD action and determining whether additional rulemaking action would be needed.

Submit comments using the following format:

• Organize comments issue-by-issue. For example, discuss a request to change the compliance time and a request to change the service bulletin reference as two separate issues.

• For each issue, state what specific change to the AD is being requested.

• Include justification (e.g., reasons or data) for each request.

Comments are specifically invited on the overall regulatory, economic, environmental, and energy aspects of the rule that might suggest a need to modify the rule. All comments submitted will be available, both before and after the closing date for comments, in the Rules Docket for examination by interested persons. A report that summarizes each FAA-public contact concerned with the substance of this AD will be filed in the Rules Docket.

Commenters wishing the FAA to acknowledge receipt of their comments submitted in response to this rule must submit a self-addressed, stamped postcard on which the following statement is made: “Comments to Docket Number 2001-NM-385-AD.” The postcard will be date stamped and returned to the commenter.

Regulatory Impact

The regulations adopted herein will not have a substantial direct effect on the States, on the relationship between the national Government and the States, or on the distribution of power and responsibilities among the various levels of government. Therefore, it is determined that this final rule does not have federalism implications under Executive Order 13132.

The FAA has determined that this regulation is an emergency regulation that must be issued immediately to correct an unsafe condition in aircraft, and that it is not a “significant regulatory action” under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket. A copy of it, if filed, may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2002-01-15 Boeing: Amendment 39-12609. Docket 2001-NM-385-AD.

Applicability: Model 767-200, -300, and -300F series airplanes, line numbers 1 through 819 inclusive, certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (c) of this AD. The request should include an assessment of the effect of the modification, alteration, or repair on the unsafe condition addressed by this AD; and, if the unsafe condition has not been eliminated, the request should include specific proposed actions to address it.

Compliance: Required as indicated, unless accomplished previously.

To prevent failure of the bearings in the link assembly joint in the inboard and outboard flaps of the trailing edge, which could result in separation of the outboard flap and consequent loss of control of the airplane, accomplish the following:

Initial Inspection

(a) Do general visual inspections of the lubrication passage and link assembly joint in the inboard and outboard flaps of the trailing edge for discrepancies (e.g., lubrication passage blocked, fractured bearing, loose or damaged joint), at the times specified in paragraph (a)(1) or (a)(2) of this AD, as applicable; per Part 1 of the Accomplishment Instructions of Boeing Alert Service Bulletin 767-27A0167, dated December 7, 2000.

Note 2: For the purposes of this AD, a general visual inspection is defined as: “A visual examination of an interior or exterior area, installation, or assembly to detect obvious damage, failure, or irregularity. This level of inspection is made under normally available lighting conditions such as daylight, hangar lighting, flashlight, or drop-light and may require removal or opening of access panels or doors. Stands, ladders, or platforms may be required to gain proximity to the area being checked.”

(1) For airplanes that have done Part 2 of the Accomplishment Instructions of the service bulletin: Within 6 months after the effective date of this AD.

(2) For airplanes that have not done Part 2 of the Accomplishment Instructions of the service bulletin: Within 90 days after the effective date of this AD or within 36 months after date of manufacture of the airplane, whichever is later.

Repetitive Inspections/Corrective Action

(b) Do the actions required by paragraph (b)(1), (b)(2), or (b)(3) of this AD, as applicable, at the time specified, per the Accomplishment Instructions of Boeing Alert Service Bulletin 767-27A0167, dated December 7, 2000.

(1) If the lubrication passage is not blocked and no fractured bearing or loose or damaged joint is found, repeat the inspection required by paragraph (a) of this AD every 6 months.

(2) If the lubrication passage is blocked and no fractured bearing or loose or damaged joint is found, repeat the inspection required by paragraph (a) of this AD every 30 days, and within 6 months after doing the initial inspection, do the actions required by paragraph (b)(3) of this AD.

(3) If any fractured bearing or loose or damaged joint is found, before further flight, do the corrective action (including removal of the link assembly, inspection for damage, and replacement with a new assembly if damaged), as specified in Part 2 of the Accomplishment Instructions of the service bulletin. Then repeat the inspections required by paragraph (a) of this AD every 6 months.

Alternative Methods of Compliance

(c) An alternative method of compliance or adjustment of the compliance time that provides an acceptable level of safety may be used if approved by the Manager, Seattle Aircraft Certification Office (ACO). Operators shall submit their requests through an appropriate FAA Principal Maintenance Inspector, who may add comments and then send it to the Manager, Seattle ACO.

Note 3: Information concerning the existence of approved alternative methods of compliance with this AD, if any, may be obtained from the Seattle ACO.

Special Flight Permits

(d) Special flight permits may be issued in accordance with sections 21.197 and 21.199 of the Federal Aviation Regulations (14 CFR 21.197 and 21.199) to operate the airplane to a location where the requirements of this AD can be accomplished.

Incorporation by Reference

(e) The actions shall be done in accordance with Boeing Alert Service Bulletin 767-27A0167, dated December 7, 2000. This incorporation by reference was approved by the Director of the Federal Register in accordance with 5 U.S.C. 552(a) and 1 CFR part 51. Copies may be obtained from Boeing Commercial Airplane Group, P.O. Box 3707, Seattle, Washington 98124-2207. Copies may be inspected at the FAA, Transport Airplane Directorate, 1601 Lind Avenue, SW., Renton, Washington; or at the Office of the Federal Register, 800 North Capitol Street, NW., suite 700, Washington, DC.

Effective Date

(f) This amendment becomes effective on February 14, 2002.

Issued in Renton, Washington, on January 16, 2002.
Michael J. Kaszycki,
Acting Manager, Transport Airplane Directorate, Aircraft Certification Service.

[FR Doc. 02-1691 Filed 1-29-02; 8:45 am]

BILLING CODE 4910-13-U